DEPARTMENT OF TRANSPORTATION

Office of the Secretary

Notice of Applications for Certificates of Public Convenience and Necessity and Foreign Air Carrier Permits Filed Under Subpart B (Formerly Subpart Q) During the Week Ending June 8, 2001

SUMMARY: The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-1995-969.

Date Filed: June 5, 2001.

Due Date for Answers, Conforming Applications, or Motion to Modify Scope: June 26, 2001.

Description: Application of Northwest Airlines, Inc., pursuant to 49 U.S.C. Section 41101 and Subpart B, requesting that the Department renew Segment 2 of Northwest's Route 378 Certificate of Public Convenience and Necessity. Northwest also requests that the Department integrate this certificate authority with all of Northwest's existing certificate and exemption authority to the extent consistent with U.S. bilateral agreements and DOT policy.

Docket Number: OST-2001-9855.

Date Filed: June 7, 2001.

Due Date for Answers, Conforming Applications, or Motion to Modify Scope: June 28, 2001.

Description: Application of Delta Air Lines, Inc., pursuant to 49 U.S.C. Sections 41102 and 41108 and Subpart B, requesting renewal of its authority to engage in foreign air transportation of persons, property and mail between the United States and Athens, Greece, which is a foreign point named on segments 3 and 9 of its certificate of public convenience and necessity for Route 616.

Docket Number: OST-1995-869.

Date Filed: June 8, 2001.

Due Date for Answers, Conforming Applications, or Motion to Modify Scope: June 29, 2001.

Description: Application of Continental Micronesia, Inc., pursuant to 49 U.S.C. Section 41102 and Subpart B, requesting renewal of its Segment 10 (Guam-Tokyo) Route 171 certificate authority for a period of no less than five years.

Docket Number: OST-1996-1318.

Date Filed: June 8, 2001.

Due Date for Answers, Conforming Applications, or Motion to Modify Scope: June 29, 2001.

Description: Application of Continental Airlines, Inc., pursuant to 49 U.S.C. Section 41102, requesting renewal of its Route 645 certificate authorizing Continental to provide scheduled air transportation of persons, property and mail between Houston and the coterminal points Barranquilla, Bogota and Cali, Colombia, via the intermediate point San Jose, Costa Rica, and to combine services on Route 645 with other Continental services authorized by certificate and exemption for a period of no less than five years.

Docket Number: OST-2001-9880.

Date Filed: June 8, 2001.

Due Date for Answers, Conforming Applications, or Motion to Modify Scope: June 29, 2001.

Description: Application of Biz Jet Services, Inc., pursuant to 49 U.S.C. Section 41102 and Subpart B, requesting a certificate of public convenience and necessity authorizing interstate charter air transportation of persons, property and mail.

Docket Number: OST-2001-9881.

Date Filed: June 8, 2001.

Due Date for Answers, Conforming Applications, or Motion to Modify Scope: June 29, 2001.

Description: Application of Biz Jet Services, Inc., pursuant to 49 U.S.C. Section 41102 and Subpart B, requesting a certificate of public convenience and necessity, authorizing foreign charter air transportation of persons, property and mail.

Dorothy Y. Beard,
Federal Register Liaison.

[FR Doc. 01-15326 Filed 6-15-01; 8:45 am]

BILLING CODE 4910-62-P